DEPARTMENT OF COMMERCE

Bureau of the Census

Census Advisory Committees

AGENCY: Bureau of the Census, Department of Commerce.

ACTION: Notice of public meeting.

SUMMARY: The Bureau of the Census (U.S. Census Bureau) is giving notice of a joint meeting, followed by separate and concurrently held meetings of the Census Advisory Committees (CACs) on the African American Population, the American Indian and Alaska Native Populations, the Asian Population, the Hispanic Population, and the Native Hawaiian and Other Pacific Islander Populations. The Committees will address issues related to the 2010 Decennial Census Program. Last-minute changes to the schedule are possible, which could prevent advance notification.

DATES: The five Census Advisory Committees on Race and Ethnicity will meet in plenary and concurrent sessions on May 3-4, 2007. On May 3, the meetings will begin at 9 a.m. and end at 5:15 p.m. On May 4, the meetings will begin at 8:30 a.m. and end at 3:30 p.m.

Location: The meeting will be held at the U.S. Census Bureau, 4600 Silver Hill Road, Suitland, Maryland 20746.

FOR FURTHER INFORMATION CONTACT: Ms. Jeri Green, Committee Liaison Officer, U.S. Census Bureau, Room 8H153, 4600 Silver Hill Road, Suitland, Maryland 20746, telephone (301) 763-2070; TTY (301) 457-2540.

SUPPLEMENTARY INFORMATION: The CACs on the African American Population, the American Indian and Alaska Native Populations, the Asian Population, the Hispanic Population, and the Native Hawaiian and Other Pacific Islander Populations are comprised of nine members each. The Committees provide an organized and continuing channel of communication between the representative race and ethnic populations and the Census Bureau. The Committees represent an outside-user perspective about how research and design plans for the 2010 Decennial Census, the American Community Survey, and other related programs achieve goals and satisfy needs associated with these communities. The Committees also recommend to the Census Bureau how data can best be disseminated to diverse race and ethnic populations and other users. The Committees are established in accordance with the Federal Advisory Committee Act (Title 5, United States Code, Appendix 2, Section 10(a)(b)).

All meetings are open to the public, with a brief period set aside for public comment. However, individuals with extensive questions or statements must submit them in writing to Ms. Jeri Green at least three days before the meeting. Seating is available to the public on a first-come, first-served basis.

These meetings are physically accessible to people with disabilities. Requests for sign language interpretation or other auxiliary aids should be directed to the Committee Liaison Officer as soon as possible, preferably two weeks prior to the meeting.

Dated: April 3, 2007.
Charles Louis Kincannon,
Director, Bureau of the Census.

[FR Doc. E7-6615 Filed 4-6-07; 8:45 am]

BILLING CODE 3510-07-P